DEPARTMENT OF COMMERCE

International Trade Administration

Export Trade Certificate of Review

ACTION: Notice of Revocation of Export Trade Certificate of Review Application No. 90-00004.

SUMMARY: The Secretary of Commerce issued an Export Trade Certificate of Review to Dimick International & Associates on May 15, 1990. Because this Certificate Holder has failed to file an annual report as required by law, the Secretary is revoking the certificate. This notice summarizes the notification letter sent to Dimick International & Associates.

FOR FURTHER INFORMATION CONTACT: Jeffrey Anspacher, Director, Export Trading Company Affairs, International Trade Administration, 202/482-5131. This is not a Toll-free number.

SUPPLEMENTARY INFORMATION: Title III of the Export Trading Company Act of 1982 (“The Act”) (Pub. L. 97-290, 15 U.S.C. 4011-21) Authorizes the Secretary of Commerce to Issue Export Trade Certificates of Review. The Regulations Implementing Title III (“the Regulations”) are found at 15 CFR part 325 (1999). Pursuant to this Authority, a Certificate of Review was issued on May 15, 1990 to Dimick International & Associates.

A Certificate Holder is required by law to submit to the Secretary of Commerce Annual Reports that update financial and other information relating to business activities covered by its Certificate (Section 308 of the Act, 15 U.S.C. 4018, Section 325.14(a) of the Regulations, 15 CFR 325.14(a)). The Annual Report is due within 45 days after the Anniversary Date of the Issuance of the Certificate of Review (Sections 325.14(b) of the Regulations, 15 CFR 325.14(b)). Failure to submit a complete Annual Report may be the Basis for Revocation (Sections 325.10(a) and 325.14(c) of the Regulations, 15 CFR 325.10(a)(3) and 325.14(c)). On May 6, 2006, the Secretary of Commerce sent to Dimick International & Associates a letter containing Annual Report questions stating that its annual report was due on June 29, 2006. A reminder was sent on May 31, 2007, with a due date of June 29, 2007. The Secretary has received no written response from Dimick International & Associates to any of these letters. On July 6, 2007, and in accordance with Section 325.10(c)(1) of the Regulations, (15 CFR 325.10(c)(1)), the Secretary of Commerce sent a letter by Certified Mail to notify Dimick International & Associates that the Secretary was formally initiating the process to revoke its Certificate for failure to file an annual report. The Secretary has received no response from Dimick International & Associates. Pursuant to Section 325.10(c)(2) of the Regulations (15 CFR 325.10(c)(2)), the Secretary considers the failure of Dimick International & Associates to respond to be an admission of the statements contained in the notification letter. The Secretary has determined to revoke the Certificate issued to Dimick International & Associates for its failure to file an annual report. The Secretary has sent a letter, dated July 20, 2007 to notify the Dimick International & Associates of its final determination.

The Revocation is effective thirty (30) days from the date of publication of this notice (325.10(c)(4) of the Regulations, 15 CFR 325.10(c)). Any person aggrieved by this decision may appeal to an appropriate U.S. District Court within 30 days from the date of publication of this notice in the Federal Register “(325.11 of the Regulations, 15 CFR 325.11).”

Dated: July 20, 2007.
Jeffrey Anspacher,
Director, Export Trading Company Affairs.

[FR Doc. E7-14540 Filed 7-26-07; 8:45 am]

BILLING CODE 3510-DR-P